DEPARTMENT OF THE INTERIOR

Fish and Wildlife Service

Draft Environmental Assessment and Receipt of Application for an Enhancement of Survival Permit Associated With the Reintroduction of Black-Footed Ferrets on Private Land in Logan County, KS

AGENCY: Fish and Wildlife Service, Interior

ACTION: Notice of availability and receipt of application.

SUMMARY: The U.S. Fish and Wildlife Service (Service) has prepared a draft Environmental Assessment (EA) for the proposed use of an Enhancement of Survival Permit (ESP) for the reintroduction of black-footed ferrets on private land in Logan County, Kansas, pursuant to section 10(a)(1)(A) of the Endangered Species Act of 1973. as amended (Act). The Service requests information, views, and opinions from the public via this notice.

DATES: Written comments on the permit application must be received by November 19, 2007.

ADDRESSES: Written data or comments should be submitted to the Assistant Regional Director, Fisheries-Ecological Services, U.S. Fish and Wildlife Service, P.O. Box 25486, Denver Federal Center, Denver, Colorado 80225-0486; facsimile 303-236-0027. Documents and other information submitted with these applications are available for review, subject to the requirements of the Privacy Act [5 U.S.C. 552A] and Freedom of Information Act [5 U.S.C. 552], by any party who submits a request for a copy of such documents within 30 days of the date of publication of this notice to Kris Olsen, by mail or by telephone at 303-236-4256. You also may obtain copies of the permit application and the draft EA by visiting our Web site at http://mountain-prairie.fws.gov/species/mammals/blackfootedferret/. All comments received from individuals become part of the official public record.

FOR FURTHER INFORMATION CONTACT: Kris Olsen, Regional Permit Coordinator (ADDRESSES above), telephone 303-236-4256, or Mike LeValley, Project Leader, Kansas Ecological Services Office, 2609 Anderson Avenue, Manhattan, Kansas 66502, telephone 785-539-3474, extension 105.

SUPPLEMENTARY INFORMATION: The applicant, Ecological Services, U.S. Fish and Wildlife Service, Manhattan, Kansas, TE-139523, has requested issuance of an enhancement of survival permit to conduct certain activities with endangered species pursuant to section 10(a)(1)(A) of the Act. Our draft EA has been conducted pursuant to the National Environmental Policy Act (NEPA).

The black-footed ferret is one of the rarest mammals in North America. Formerly co-occurring across the ranges of all prairie dog species, its distribution has been greatly reduced due to disease (plague), poisoning of prairie dogs, and human-related habitat alteration. The only known current populations are those in captivity and those started through reintroduction of captive-bred individuals. Protection of this species and enhancement of its habitat on private land will benefit recovery efforts.

The primary objections of the proposed action are—(a) to experiment with reintroduction of ferrets into much smaller prairie dog colonies than has traditionally been attempted; and (b) to attempt to establish a self-sustaining population outside the known active occurrence of sylvatic plague. This action could result in the accidental taking of individual ferrets on or off the release properties, from normal agricultural activities and vehicular traffic, and the permit will cover that take. The property upon which ferrets will be reintroduced is currently used as grazing land and cropland and is bordered by private lands. At the present time, each property supports several active prairie dog colonies, which have been evaluated and determined potentially suitable for the support of ferrets. The proposed reintroduction experiment would continue for 5 years, after which it may be terminated or continued indefinitely depending upon success and cooperating landowner desires. For more information regarding specifics of the experiment, contact the Kansas Field Office (FOR FURTHER INFORMATION CONTACT above).

We have made the determination that the proposed activities will enhance survival and recovery of the black-footed ferret. This notice is provided pursuant to NEPA and section 10 of the Act.

The Service has evaluated the impacts of this action under the NEPA and determined that it is not a major Federal action which would significantly affect the quality of the human environment within the meaning of section 102(s)(C) of the NEPA. The Service has also evaluated whether the activity complies with section 7 of the Act by conducting an intra-Service section 7 consultation on the issuance of the permit. The result of the biological opinion, in combination with the above finding and any public comments, will be used in the final analysis to determine whether or not to finalize or amend the draft EA and to issue the permit.

We will evaluate the permit application, the draft EA, and comments submitted therein to determine whether the application meets the requirements of section 10(a) of the Act. If it is determined that those requirements are met, a permit will be issued for the reintroduction of the black-footed ferret. The final permit decision will be made no sooner than 30 days after the date of this notice.

Authority: The authority of this action is the Endangered Species Act of 1973, as amended (16 U.S.C. 1531 et seq.) and the National Environmental Policy Act of 1969, as amended (42 U.S.C. 4321 et seq.).

Dated: October 15, 2007.
Stephen Guertin,
Acting Regional Director, Denver, Colorado.

[FR Doc. E7-20669 Filed 10-18-07; 8:45 am]

BILLING CODE 4310-55-P